DEPARTMENT OF HEALTH AND HUMAN SERVICES

Health Resources and Services Administration

Agency Information Collection Activities: Submission for OMB Review; Comment Request

Periodically, the Health Resources and Services Administration (HRSA) publishes abstracts of information collection requests under review by the Office of Management and Budget (OMB), in compliance with the Paperwork Reduction Act of 1995 (44 U.S.C. Chapter 35). To request a copy of the clearance requests submitted to OMB for review, call the HRSA Reports Clearance Office on (301) 443-1129.

The following request has been submitted to the Office of Management and Budget for review under the Paperwork Reduction Act of 1995:

Proposed Project: Faculty Loan Repayment Program (FLRP) Application (OMB No. 0915-0150)—Extension

Under the Health Resources and Services Administration Faculty Loan Repayment Program, health profession graduates from a disadvantaged background may enter into a contract under which HRSA, with the Department of Health and Human Services, will make payments on eligible health professions educational loans in exchange for a minimum of two years of service as a full-time or part-time faculty member of an accredited health professions college or university. Applicants must complete an application and provide all other required documentation including information on all eligible health professions educational loans.

The estimated response burden is as follows:

Respondent | Number of respondents | Responses per response | Total responses | Hours per response | Total burden hours
Applicants | 160 | 1 | 160 | 1 | 160

Written comments and recommendations concerning the proposed information collection should be sent within 30 days of this notice to: John Kraemer, Human Resources and Housing Branch, Office of Management and Budget, New Executive Office Building, Room 10235, Washington, DC 20503.

Dated: September 7, 2006.
Cheryl R. Dammons,
Director, Division of Policy Review and Coordination.

[FR Doc. E6-15286 Filed 9-14-06; 8:45 am]

BILLING CODE 4165-15-P